DEPARTMENT OF JUSTICE

Antitrust Division

Notice Pursuant to the National Cooperative Research and Production Act of 1993—Telemanagement Forum

Notice is hereby given that, on April 21, 2015, pursuant to Section 6(a) of the National Cooperative Research and Production Act of 1993, 15 U.S.C. 4301 et seq. (“the Act”), TeleManagement Forum (“The Forum”) has filed written notifications simultaneously with the Attorney General and the Federal Trade Commission disclosing changes in its membership. The notifications were filed for the purpose of extending the Act's provisions limiting the recovery of antitrust plaintiffs to actual damages under specified circumstances. Specifically, The KPI Guy, Arvada, CO; BumpConductor B.V., Driehuis, NETHERLANDS; Appledore Research Group, Dover, NH; Porte Alegre, Porte Alegre, BRAZIL; GFI INFORMATIQUE, Saint-Ouen, FRANCE; Cepheid, Sunnyvale, CA; Cubika S.A., Buenos Aires, ARGENTINA; Telenor Hungary, Pannon út, HUNGARY; Ernst & Young, S.A. Costa Rica, San José, COSTA RICA; Business-intelligence of Oriental Nations Corporation Ltd., Beijing, PEOPLE'S REPUBLIC OF CHINA; SAS Institute Inc., Cary, NC; Converge ICT Solutions Inc., Pasig City, PHILIPPINES; InfoCumulus, Zagreb, CROATIA; BrandedIPTV, Hong Kong, HONG KONG-CHINA; Eurofiber Nederland B.V., Utrecht, NETHERLANDS; University Campus Milton Keynes, Milton Keynes, UNITED KINGDOM; Bright Computing BV, Amsterdam, NETHERLANDS; IRIS Network Systems, Cape Town, SOUTH AFRICA; Sonogy Research LLC, Florham Park, NJ; Sysbiz Technologies Pvt. Ltd., Chennai, INDIA; Intellect Application Service, Bangalore, INDIA; Tr3dent, Galway, IRELAND; Liquid Telecom, London, UNITED KINGDOM; Envision Business Consulting Ltd., Crawley, UNITED KINGDOM; SBB Telecom, Bern, SWITZERLAND; Oman Telecommunications Company, Ruwi, OMAN; Sunnur Network, Santa Clara, CA; Netxcel Systems Pte. Ltd., Singapore, SINGAPORE; Etisalat UAE, Abu Dhabi, UNITED ARAB EMIRATES; Aria-Networks, Chippenham, UNITED KINGDOM; Neotel (Proprietary) Ltd., Johannesburg, SOUTH AFRICA; Telkom SA, Gauteng, SOUTH AFRICA; and UXP Systems, Toronto, CANADA, have been added as parties to this venture.

The following members have withdrawn as parties to this venture: ABHIDEEP LTD., Kidlington, UNITED KINGDOM; Abiba Systems Private Limited, Bangalore, INDIA; ACG Research, Gilbert, AZ; AIRCOM International Ltd., Leatherhead, UNITED KINGDOM; Applied Communication Sciences, Basking Ridge, NJ; ATANOO Europe GmbH, Zug, SWITZERLAND; Axia NetMedia Corporation, Calgary, CANADA; Bakcell LTD., Baku, AZERBAIJAN; BI Telecom, Moscow, RUSSIA; Blue Buffalo Group, Lafayette, CO; Booz & Company NA Inc., New York, NY; CANTV, Negocios de Cantv, VENEZUELA; CHR Solutions, Houston, TX; Clarity, North Sydney, AUSTRALIA; Commonwealth Bank of Australia, Sydney, AUSTRALIA; CommProve Ltd., Dublin, IRELAND; Computer Sciences Corporation, Wiesbaden, GERMANY; CPqD, Campinas, BRAZIL; Cycle Computing, Greenwich, CT; Driva Solutions, LLC, Bellevue, WA; EE Limited, Hatfield, UNITED KINGDOM; EJADA, Riyadh, SAUDI ARABIA; Emagine International Pty Ltd., Ultimo, AUSTRALIA; Empresa De Telecomunicaciones De Bogota S.A. E.S.P, Bogota, COLOMBIA; Entel Chile PCS Telecomunicaciones SA, Santiago, CHILE; Episteme Systems Limited, Blanchardstown, IRELAND; Finserve Africa Limited, Opposite Yaya Centre, KENYA; Genesys Telecommunications Laboratories B.V., Naarden, NETHERLANDS; GFI INFORMATIQUE, Saint-Ouen, FRANCE; Global Telecom Holding SAE, Cairo, EGYPT; ieon consulting Ltd., London, UNITED KINGDOM; imaginary srl, Milan, ITALY; Intelli Solutions SA, Athens, GREECE; International Engineering Consortium, Chicago, IL; Janus Consulting Partners, Addison, TX; Japan Mobile Platform, Tokyo, JAPAN; JustOne Database, Inc., Guilford, CT; King Mongkut's University of Technology Thonburi—Faculty of Engineering, Bangmod Thungkru Bangkok, THAILAND; KJM Consulting, Chesham, UNITED KINGDOM; Korea Telecom, Seongnam City, KOREA; Meditelecom, Casablanca, MOROCCO; MTN Cameroon, Douala, CAMEROON; MTN Nigeria Communications Ltd., Victoria Island, NIGERIA; MTN SA (Pty) Ltd., Randburg, SOUTH AFRICA; Netadmin Systems, Linkoping, SWEDEN; NetworkMining, Antwerpen, BELGIUM; Nexus Telecom AG, Zurich, SWITZERLAND; NTS New Technology Systems GmbH, Wilhering, AUSTRIA; Nucleus Connect Pte Ltd., Singapore, SINGAPORE; Open Technologies Solutions SA, Nyon, SWITZERLAND; Optimus- Comunicacoes SA, Lisbon, PORTUGAL; Perpetual Solutions, London, UNITED KINGDOM; Phone Wave, Vaughan, CANADA; PricewaterhouseCoopers LLP, London, UNITED KINGDOM; Protiviti Member Firm Qatar LLC, Kuwait City, KUWAIT; Push Science, Toronto, CANADA; QualiSystems, Ganey-Tikva, ISRAEL; RainStor Inc., San Francisco, CA; Real IRM Solutions (Pty) Ltd., Gauteng, SOUTH AFRICA; Scancom Ltd., Ridge-Accra, GHANA; ServiceFrame, Belfield, IRELAND; Shenzhen Huge Information Technology Co.,Ltd., Shenzhen, PEOPLE'S REPUBLIC OF CHINA; Spark New Zealand Limited, Auckland, NEW ZEALAND; Starnet SRL, Chisinau, MOLDOVA; Tail-f Systems, Stockholm, SWEDEN; Telecomunication of Mozambique, Maputo, MOZAMBIQUE; Telekom Romania, Bucharest, ROMANIA; Tonex, Inc., Richardson, TX; TV-7, Seversk, RUSSIA; Ultrafast Fibre Limited, Hamilton, NEW ZEALAND; and Wellink, Moscow, RUSSIA.

Also, Cosmo Bulgaria Mobile EAD(Globul) has changed its name to Telenor Bulgaria EAD, Sofia, BULGARIA.

No other changes have been made in either the membership or planned activity of the group research project. Membership in this group research project remains open, and The Forum intends to file additional written notifications disclosing all changes in membership.

On October 21, 1988, Forum filed its original notification pursuant to Section 6(a) of the Act. The Department of Justice published a notice in the Federal Register pursuant to Section 6(b) of the Act on December 8, 1988 (53 FR 49615).

The last notification was filed with the Department on January 16, 2015. A notice was published in the Federal Register pursuant to Section 6(b) of the Act on February 27, 2015 (80 FR 10715).

Patricia A. Brink,
Director of Civil Enforcement, Antitrust Division.

[FR Doc. 2015-12674 Filed 5-26-15; 8:45 am]

BILLING CODE P